DEPARTMENT OF COMMERCE

International Trade Administration

Antidumping Proceedings: Calculation of the Weighted Average Dumping Margin During an Antidumping Duty Investigation; Extension of Rebuttal Comment Period

AGENCY: Import Administration, International Trade Administration, Department of Commerce.

ACTION: Extension of Rebuttal Comment Period

SUMMARY: On March 6, 2006, the Department of Commerce (“the Department”) published a notice in the Federal Register requesting comments regarding its calculation of the weighted average dumping margin during an antidumping duty investigation (71 FR 11189). The Department has decided to extend the rebuttal comment period, making the new deadline for the submission of public rebuttal comments May 4, 2006.

DATES: To be assured of consideration, written rebuttal comments must be received no later than May 4, 2006.

ADDRESS: Submit rebuttal comments to David Spooner, Assistant Secretary for Import Administration, U.S. Department of Commerce, Central Records Unit, Room 1870, Pennsylvania Avenue and 14th Street, NW., Washington, DC 20230; Attention: Weighted Average Dumping Margin.

FOR FURTHER INFORMATION CONTACT: Michael Rill at (202) 482-3058, Mark Barnett (202) 482-2866, or William Kovatch (202) 482-5052.

Comments—Deadline, Format and Number of Copies

The Department is extending the deadline for submitting rebuttal comments by two weeks, to May 4, 2006. The Department will consider all rebuttal comments received before the close of the comment period. Rebuttal comments received after the end of the comment period will be considered, if possible, but their consideration cannot be assured.

Parties wishing to file rebuttal comments should submit a signed original and six copies of each set of comments, along with a cover letter identifying the commenter's name and address. To help simplify the processing and distribution of the rebuttal comments, the Department requests that a submission in electronic form accompany the required paper copies. Comments filed in electronic form should be on CD-ROM in either WordPerfect format or a format that the WordPerfect program can convert into WordPerfect.

The Department will not accept comments accompanied by a request that a part or all of the material be treated confidentially because of its business proprietary nature or for any other reason. The Department will return such comments and materials to the persons submitting the comments and will not consider them in connection with this proceeding.

Comments received on CD-ROM will be made available to the public on the Web at the following address: http://ia.ita.doc.gov/. In addition, upon request, the Department will make comments filed in electronic form available to the public on CD-ROMs (at cost) with specific instructions for accessing compressed data (if necessary). Any questions concerning file formatting, document conversion, access on the Web, or other electronic filing issues should be addressed to the IA Webmaster, at (202) 482-0866 or via e-mail at webmaster_support@ita.doc.gov.

Dated: April 19, 2006.
David M. Spooner,
Assistant Secretary for Import Administration.

[FR Doc. E6-6198 Filed 4-24-06; 8:45 am]

BILLING CODE 3510-DS-S